SECURITIES AND EXCHANGE COMMISSION

[Release No. 34-69639; File No. SR-NYSEArca-2013-39]

Self-Regulatory Organizations; NYSE Arca, Inc.; Notice of Withdrawal of a Proposed Rule Change Amending NYSE Arca Equities Rule 7.31 To Add a Moving Average Check for Incoming Market Orders and Marketable Limit Orders

May 24, 2013.

On April 11, 2013, NYSE Arca, Inc. (“NYSE Arca”) filed with the Securities and Exchange Commission (“Commission”) pursuant to Section 19(b)(1) of the Securities Exchange Act of 1934 (the “Act”) ¹ and Rule 19b-4 thereunder,² a proposed rule change to amend NYSE Arca Equities Rule 7.31 to add a Moving Average Check for incoming market orders and marketable limit orders. The proposed rule change was published for comment in the Federal Register on April 30, 2013.³ The Commission did not receive any comment letters on the proposal. On May 14, 2013, NYSE Arca withdrew the proposed rule change (SR-NYSEArca-2013-39).

¹ 15 U.S.C. 78s(b)(1).

² 17 CFR 240.19b-4.

³ See Securities Exchange Act Release No. 69443 (April 24, 2013), 78 FR 25332 (SR-NYSEArca-2013-39).

For the Commission, by the Division of Trading and Markets, pursuant to delegated authority.⁴
⁴ 17 CFR 200.30-3(a)(12).
Jill M. Peterson,
Assistant Secretary.

[FR Doc. 2013-12896 Filed 5-30-13; 8:45 am]

BILLING CODE 8011-01-P